DEPARTMENT OF HOMELAND SECURITY

Federal Emergency Management Agency

Agency Information Collection Activities: Proposed Collection; Comment Request

AGENCY: Federal Emergency Management Agency, Emergency Preparedness and Response Directorate, U.S. Department of Homeland Security.

ACTION: Notice and request for comments.

SUMMARY: The Federal Emergency Management Agency, as part of its continuing effort to reduce paperwork and respondent burden, invites the general public and other Federal agencies to take this opportunity to comment on a proposed new information collection. In accordance with the Paperwork Reduction Act of 1995 (44 U.S.C. 3506(c)(2)(A)), this notice seeks comments concerning an evaluation of the National Flood Insurance Program (NFIP) aimed at documenting program's impact on land use, state floodplain development and management capacity, program participation of low-income populations, flood insurance purchase decisions, and NFIP communication strategies.

SUPPLEMENTARY INFORMATION: The National Flood Insurance Program (NFIP), created by the National Flood Insurance Act of 1968 (Pub. L. 90-488, as amended) is a federal program that enables property owners in participating communities to purchase insurance as a protection against flood loses in exchange for State and community floodplain management regulations that reduce future flood damages. The Act authorizes studies of flood hazards to provide a basis for appraising NFIP's effect on land-use requirements. This information collection will assess NFIP's effectiveness and efficiency and will identify appropriate alternatives to current operations or opportunities for improvement. Findings will be shared and widely used by program officials, executive branch and congressional committees with oversight responsibility for the NFIP, and other stakeholders.

Collection of Information

Title: Evaluation of the Federal Emergency Management Agency's National Flood Insurance Program (NFIP).

Type of Information Collection: New.

OMB Number: 1660-NEW10.

Abstract: The National Flood Insurance Program (NFIP) will conduct a one-time only comprehensive evaluation of its impact on land-use requirements aimed at reducing loss of life and property due to floods. The study will center around six areas of inquiry translated into 52 evaluative questions through a combination of case studies, in-depth interviews, and surveys applied to an across-the-board representation of NFIP constituencies involving communities, state agencies, mortgage lenders, insurance agents, land developers, and individual and business flood insurance policy and non-policy holders. Data findings will be used by NFIP officials to develop strategies aimed at improving the effectiveness and efficiency of the program.

Affected Public: Individuals and Households, State and Tribal Governments, and Businesses and Other for-Profit Organizations.

Estimated Total Annual Burden Hours: 3,410.

FEMA forms | Number of respondents (A) | Frequency of response (B) | Hours per response (C) | Annual burden hours (A × B × C)
Case Studies | 276 | 1 | 2.00 | 552
Surveys | 8,575 | 1 | .33 | 2858
Total | 8,851 | 1 |  | 3,410

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technolo-gy, e.g., permitting electronic submission of responses. Comments should be received within 60 days of the date of this notice.

ADDRESSES: Interested persons should submit written comments to Muriel B. Anderson, Chief, Records Management Section, Information Resources Management Branch, Information Technology Services Division, Federal Emergency Management Agency, Emergency Preparedness and Response Directorate, Department of Homeland Security, 500 C Street, SW., Room 316, Washington, DC 20472.

FOR FURTHER INFORMATION CONTACT: Contact Ms. Claudia Murphy, Program Analyst, National Flood Insurance Program at (202) 646-2775 for additional information. You may contact Ms. Anderson for copies of the proposed collection of information at facsimile number (202) 646-3347 or email address: FEMA-Information-Collections@dhs.gov.

Dated: August 23, 2004.
Edward W. Kernan,
Branch Chief, Information Resources Management Branch, Information Technology Services Division.

[FR Doc. 04-19792 Filed 8-31-04; 8:45 am]

BILLING CODE 9110-11-P